DEPARTMENT OF TRANSPORTATION

Federal Motor Carrier Safety Administration

Office of Analysis, Research, and Technology Forum

AGENCY: Federal Motor Carrier Safety Administration (FMCSA), DOT.

ACTION: Notice of meeting/forum.

SUMMARY: FMCSA's Office of Analysis, Research, and Technology (ART) invites interested persons to participate in a forum regarding updating it's 5-Year Strategic Plan (2010-2015). FMCSA is seeking input from industry leaders via two public Stakeholder Forums in order to identify and discuss key safety related challenges and opportunities facing the motor carrier industry, and to solicit ideas on research objectives that FMCSA should consider in developing it's strategic plan—as well as on potential projects and programs that would help meet those safety research objectives. As a participant in the forum, attendees will have an opportunity to comment on the proposed mission, vision and strategic objectives (goals) for the 5-Year Strategic Plan, and provide any additional insights they feel will be important to the FMCSA.

Where and When:

Meeting # 1. Hyatt Place Denver Airport, 16250 E. 40th Ave., Aurora, CO 80011, on Thursday August 13, 2009 from 9 a.m. to 4 p.m.

Meeting # 2. Booz Allen Hamilton Conference Center, Hamilton 2011, 8283 Greensboro Dr., McLean, VA 22102, on Tuesday, August 18, 2009, from 9 a.m. to 4 p.m.

Registration: Space will be limited to the first 30 registered participants for each forum. To attend the forum, send an e-mail to: karen.robin@dot.gov.

FOR FURTHER INFORMATION CONTACT: Dr. Martin R. Walker, Office of Analysis, Research and Technology, Federal Motor Carrier Safety Administration, 1200 New Jersey Ave, SW., Washington, DC 20590; telephone (202) 385-2364 or e-mail martin.r.walker@dot.gov Or, contact Karen Robin in the same office at (202) 385-2373 or e-mail karen.robin@dot.gov Office hours are from 8 a.m. to 4:30 p.m., E.S.T., Monday through Friday, except Federal holidays.

SUPPLEMENTARY INFORMATION: ART is currently in the process of updating its 5-Year Strategic Plan, which was last issued in 2005. The updated plan seeks to articulate the ART's mission to reduce the number and severity of commercial motor vehicle crashes by expanding FMCSA's knowledge portfolio of available technological, behavioral, and operational approaches for addressing safety challenges in the motor carrier industry.

Forum attendees will receive an Information Packet on current programs the Office of Research and Technology is working on. While the forum will be open to the public, it will be limited to the space available. Individuals requiring special needs/accommodations (sign, reader, etc.), please call Karen Robin at (202) 385-2373 or e-mail karen.robin@dot.gov.

Issued On: July 28, 2009.
David Anewalt,
Acting Associate Administrator for Research and Information Technology.

[FR Doc. E9-18770 Filed 8-5-09; 8:45 am]

BILLING CODE 4910-EX-P